COMMISSION ON CIVIL RIGHTS

Sunshine Act Notice

AGENCY: United States Commission on Civil Rights.

ACTION: Notice of meeting.

DATE AND TIME: Friday, October 21, 2011; 9:30 a.m. EDT

PLACE: 624 Ninth Street, NW., Room 540, Washington, DC 20425.

Meeting Agenda

This meeting is open to the public.

I. Approval of Agenda

II. Approval of the September 9, 2011 Meeting Minutes

III. Statement on the passing of Rev. Shuttlesworth and Professor Derrick Bell

IV. Program Planning Update and discussion of projects:

• Approval of School Discipline briefing report

• Approval of Scope of Discovery Plan for VRA Report

V. Management and Operations

• Staff Director's report

• Discussion of the use of Commission Letterhead

• Discussion of the use of USCCR email accounts

• Discussion of date change for December Commission Meeting

VI. State Advisory Committee Issues:

• Re-chartering the California SAC

• Re-chartering the Nebraska SAC

• Re-chartering the Arizona SAC

VII. Adjourn

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: October 11, 2011.
Kimberly A. Tolhurst,
Senior Attorney-Advisor.

[FR Doc. 2011-26583 Filed 10-11-11; 11:15 am]

BILLING CODE 6335-01-P